ENVIRONMENTAL PROTECTION AGENCY

40 CFR Part 300

[FRL-7499-8]

National Oil and Hazardous Substances Pollution Contingency Plan; National Priorities List

AGENCY: Environmental Protection Agency (EPA).

ACTION: Notice of partial deletion of Cecil Field Naval Air Station (Site) From the National Priorities List (NPL).

SUMMARY: The Environmental Protection Agency, Region 4, announces the partial deletion of the Cecil Field Naval Air Station Superfund Site (the “Site”) (EPA ID# FL 5170022474) from the National Priorities List (NPL). The portion to be deleted is described below. The NPL is codified as appendix B to the National Oil and Hazardous Substances Pollution Contingency Plan (NCP), 40 CFR part 300, which EPA promulgated pursuant to section 105 of the Comprehensive Environmental Response, Compensation, and Liability Act (CERCLA), as amended, 42 U.S.C. 9605. The EPA has determined, with the concurrence of the State of Florida through its Department of Environmental Protection, that the parcels to be deleted under this action do not pose a significant threat to public health or the environment, as defined by CERCLA, and therefore, further remedial measures pursuant to CERCLA are not appropriate for these parcels.

The remaining parcels comprising the Cecil Field Naval Air Station Superfund Site will remain on the NPL. Response actions are either underway at these parcels or the parcels do not require any further response action other than operation and maintenance activities and enforcement.

EFFECTIVE DATE: June 20, 2003.

FOR FURTHER INFORMATION CONTACT: Deborah A. Vaughn-Wright, Remedial Project Manager, Federal Facilities Branch, Waste Management Division, U.S. Environmental Protection Agency, 61 Forsyth Street, Atlanta, Georgia 30303, 404-562-8539, fax 404-562-8518, e-mail vaughn-wright.debbie@epa.gov.

SUPPLEMENTARY INFORMATION: The portions of Cecil Field to be deleted from the NPL include OU 4 (site 10), OU 5 (site 14), OU 12 (sites 44, 42 and the Old Golf Course) and an additional 16,527 acres which are not associated with an operable unit that have been evaluated as not posing a risk to human health and the environment (BRAC environmental condition of property 1, 2, 3 and 4).

The boundaries of the base are within the following coordinates: 30.3012 North Latitude, 81.9306 West Longitude; 30.3012 North Latitude, 81.9244 West Longitude; 30.3063 North Latitude, 81.8781 West Longitude; 30.2468 North Latitude, 81.8445 West Longitude; 30.1784 North Latitude, 81.8676 West Longitude; 30.1783 North Latitude, 81.8847 West Longitude. Within these coordinates are several areas which are not part of this partial deletion. The areas not included are Building 635, Building 605, Potential Source of Contamination (PSC) 51 (Current golf Course), Operable Unit (OU) 1 (Sites 1—Old Landfill and Site 2—recent landfill), OU 2 (Site 5—Oil Disposal Area Northwest and Site 17—Oil and Sludge Disposal Pit Southwest), OU 3 (Site 7—Old Firefighter Training Area and Site 8—Boresite Range/Hazardous Waste Storage/Firefighting Area), OU 5 (Site 15—Blue 10 Ordnance Disposal Area, Site 49—Recent Skeet Range), OU 6 (site 11—Golf Course Pesticide Disposal Area), OU 7, (Site 16—AIMD Seepage Pit/NDI Holding Tank), OU 8 (Site 3—Oil and Sludge Disposal Pit), OU 9 (Site 36—Control Tower TCE Plume, Site 37—Hangars 13 and 14 DCE Plume, Site 57—Building 824A/Day Tank 1 Area, and Site 58—Building 312 Area), OU 10 (Site 21—Golf Course Maintenance Area and Site 25—Former Transformer Storage Area), OU 11 (Site 45—Former Steam Generating Plant), and OU 12 (Site 32—Former DRMO Area). A Notice of Intent to Delete for this site was published in the Federal Register on January 29, 2003 (68 FR 4429). The closing date for comments on the Notice of Intent to Delete was March 31, 2003. EPA received no comments during this period.

The EPA identifies sites which appear to present a significant risk to public health, welfare, or the environment and it maintains the NPL as the list of those sites. Deletion from the NPL does not necessarily preclude further remedial action. Federal Facilities are not subject of the Hazardous Substances Response Fund (Fund) financed remedial actions. However, all federal facilities have a continuing statutory duty to conduct further remediation, if required even after the federal property is transferred to non-federal owners.

List of Subjects in 40 CFR Part 300

Environmental protection, Air pollution control, Chemicals, Hazardous substances, Hazardous waste, Intergovernmental relations, Penalties, Reporting and recordkeeping requirements, Superfund, Water pollution control, Water supply.

Dated: April 18, 2003.
A. Stanley Melburg,
Acting Regional Administrator, Region 4.

For the reasons set out in the preamble, 40 CFR part 300, Title 40 of Chapter 1 of the Code of Federal Regulations is amended as follows:

PART 300—[AMENDED]

1. The authority citation for part 300 continues to read as follows:

Authority: 42 U.S.C. 9601-9657; 33 U.S.C. 1321(c)(2); E.O. 12777, 56 FR 54757, 3 CFR, 1991 Comp.; p. 351; E.O. 12580, 52 FR 2923, 3 CFR, 1987 Comp.; p. 193.

Appendix B—[Amended]

2. Table 2 of appendix B to part 300 is amended by revising the entry for Cecil Field Naval Air Station to read as follows:

Appendix B to Part 300—National Priorities List

* * * * *

Table 2.—Federal Facilities Section
St | Site name | City/County | Notes (a)
FL | Cecil Field Naval Air Station | Jacksonville | P
(a) * * *
* * * * * * *
P=Sites within partial deletion(s).

[FR Doc. 03-12476 Filed 5-20-03; 8:45 am]

BILLING CODE 6560-50-M